DEPARTMENT OF THE INTERIOR

Fish and Wildlife Service

50 CFR Part 20

[Docket No. FWS-HQ-MB-2023-0113; FF09M32000-234-FXMB1231099BPP0]

RIN 1018-BG63

Migratory Bird Hunting; Proposed 2024-25 Migratory Game Bird Hunting Regulations (Preliminary)

AGENCY: Fish and Wildlife Service, Interior.

ACTION: Proposed rule.

SUMMARY: The U.S. Fish and Wildlife Service (Service or we) proposes to establish hunting regulations for certain migratory game birds for the 2024-25 hunting season. Through an annual rulemaking process, we prescribe outside limits (which we refer to as frameworks) within which States may select hunting seasons. This proposed rule provides the regulatory schedule, describes the proposed regulatory alternatives for the 2024-25 general duck seasons, and provides preliminary proposals that vary from the 2023-24 hunting season regulations. Migratory bird hunting seasons provide opportunities for recreation and sustenance; aid Federal, State, and Tribal governments in the management of migratory game birds; and permit harvests at levels compatible with migratory game bird population status and habitat conditions.

DATES: Comments: You may comment on the general duck season regulatory alternatives and other preliminary proposals for the 2024-25 season until March 11, 2024.

ADDRESSES: Comments: You may submit comments on the proposals by one of the following methods:

• Federal eRulemaking Portal: https://www.regulations.gov. Follow the instructions for submitting comments on Docket No. FWS-HQ-MB-2023-0113.

• U.S. mail: Public Comments Processing, Attn: FWS-HQ-MB-2023-0113; U.S. Fish and Wildlife Service; MS: PRB/3W; 5275 Leesburg Pike; Falls Church, VA 22041-3803.

We will not accept emailed or faxed comments. We will post all comments on https://www.regulations.gov. This generally means that your entire submission—including any personal identifying information—will be posted on the website. See Public Comments, below, for more information.

FOR FURTHER INFORMATION CONTACT: Jerome Ford, U.S. Fish and Wildlife Service, Department of the Interior, (703) 358-2606; jerome_ford@fws.gov. For a summary of the rule, please see the “rule summary document” in docket FWS-HQ-MB-2023-0113 on https://www.regulations.gov.

SUPPLEMENTARY INFORMATION:

Process for Establishing Annual Migratory Game Bird Hunting Regulations

Background

Migratory game birds are those bird species so designated in conventions between the United States and several foreign nations for the protection and management of these birds. Under the Migratory Bird Treaty Act (MBTA; 16 U.S.C. 703-712), the Secretary of the Interior is authorized to determine when “hunting, taking, capture, killing, possession, sale, purchase, shipment, transportation, carriage, or export of any such bird, or any part, nest, or egg” of migratory game birds can take place, and to adopt regulations for this purpose (16 U.S.C. 704(a)). These regulations are written after giving due regard to “the zones of temperature and to the distribution, abundance, economic value, breeding habits, and times and lines of migratory flight of such birds” (16 U.S.C. 704(a)) and are updated annually. This responsibility has been delegated to the Service as the lead Federal agency for managing and conserving migratory birds in the United States. However, migratory bird management is a cooperative effort of Federal, State, and Tribal governments.

The Service annually develops migratory game bird hunting regulations by establishing the frameworks, or outside limits, for season dates, season lengths, shooting hours, bag and possession limits, and areas where migratory game bird hunting may occur. These frameworks are necessary to allow harvest at levels compatible with migratory game bird population status and habitat conditions. After the frameworks are established, States may select migratory game bird hunting seasons within the frameworks. States may always be more conservative in their selections than the frameworks, but never more liberal. The annual process of developing migratory game bird hunting regulations concludes when we establish the State season selections as Federal regulations under title 50 of the Code of Federal Regulations, part 20, subpart K.

Acknowledging regional differences in hunting conditions, the Service has administratively divided the United States into four Flyways for the primary purpose of managing migratory game birds. Each Flyway (Atlantic, Mississippi, Central, and Pacific) has a Flyway Council, a formal organization generally composed of one member from each State within the Flyway, as well as Provinces in Canada that share migratory bird populations with the Flyway. The Flyway Councils, established through the Association of Fish and Wildlife Agencies, also assist in researching and providing migratory game bird management information for Federal, State, Tribal, and Provincial governments, as well as private conservation entities and the general public.

Overview of the Rulemaking Process

The process for adopting migratory game bird hunting regulations, which are set forth at 50 CFR part 20, is constrained by three primary factors. Legal and administrative considerations dictate how long the rulemaking process will last. Most importantly, however, the biological cycle of migratory game birds controls the timing of data-gathering activities and thus the dates on which these results are available for consideration and deliberation.

For the regulatory cycle, Service biologists gather, analyze, and interpret biological survey data and provide this information to all those involved in the process through a series of published status reports and presentations to Flyway Councils and other interested parties. Because the Service is required to take abundance of migratory game birds and other factors into consideration, the Service undertakes a number of surveys throughout the year in conjunction with Service Regional Offices, the Canadian Wildlife Service, and State and Provincial wildlife-management agencies. To determine the appropriate frameworks for each species, we consider factors such as population size and trend, geographical distribution, annual breeding effort, condition of breeding and wintering habitat, number of hunters, and anticipated harvest.

Service Migratory Bird Regulations Committee Meetings

The Service Migratory Bird Regulations Committee (SRC) conducted an open meeting on May 31, 2023, to discuss preliminary issues for the 2024-25 regulations and will conduct another meeting in fall 2023 to review information on the current status of migratory game birds and develop recommendations for the 2024-25 hunting regulations for these species. In accordance with 50 CFR 20.153, these meetings are open to public observation, and observers may submit written comments to the Service on the matters discussed. These meetings are announced in the Federal Register or online on the Service's Migratory Bird Program website at least 2 weeks before the meeting date.

Rulemaking Process for the 2024-25 Season

This document is the first in a series of proposed and final rulemaking documents for migratory game bird hunting regulations. This document announces our intent to establish open hunting seasons for certain designated groups or species of migratory game birds for 2024-25 in the contiguous United States, Alaska, Hawaii, Puerto Rico, and the Virgin Islands, under §§ 20.101 through 20.107, 20.109, and 20.110 of 50 CFR part 20, subpart K. For the 2024-25 migratory game bird hunting season, we will propose regulations for certain designated members of the avian families Anatidae (ducks, geese, and swans); Columbidae (doves and pigeons); Gruidae (cranes); Rallidae (rails, coots, and gallinules); and Scolopacidae (woodcock and snipe).

The proposed regulatory alternatives for the 2024-25 duck hunting seasons are contained at the end of this document. We will publish additional proposals for public comment in the Federal Register as population, habitat, harvest, and other information become available. We annually publish definitions of flyways and management units and a description of the data used in and the factors affecting the regulatory process. This information will be included in proposed and final rules later in the regulations-development process (see 88 FR 6054, January 30, 2023, for the latest definitions and descriptions). Major steps in the 2024-25 regulatory cycle relating to open public meetings and Federal Register notifications are illustrated in the diagram at the end of this proposed rule. All publication dates of Federal Register documents are target dates. Our goal is to publish final regulatory alternatives for duck seasons and proposed season frameworks in winter 2023 and final season frameworks in spring 2024.

Subject Matter Organization

Sections of this and subsequent documents outlining hunting frameworks and guidelines are organized under numbered headings. These headings are:

1. Ducks

A. General Harvest Strategy

B. Regulatory Alternatives

C. Zones and Split Seasons

D. Special Seasons/Species Management

i. Early Teal Seasons

ii. Early Teal/Wood Duck Seasons

iii. Black Ducks

iv. Canvasbacks

v. Pintails

vi. Scaup

vii. Mottled Ducks

viii. Wood Ducks

ix. Eastern Mallards

x. Youth and Veterans-Active-Military-Personnel Hunting Days

xi. Mallard Management Units

xii. Other

2. Sea Ducks

3. Mergansers

4. Canada Geese

A. Special Early Seasons

B. Regular Seasons

C. Special Late Seasons

5. White-fronted Geese

6. Brant

7. Snow and Ross's (Light) Geese

8. Swans

9. Sandhill Cranes

10. Coots

11. Gallinules

12. Rails

13. Snipe

14. Woodcock

15. Band-tailed Pigeons

16. Doves

17. Alaska

18. Hawaii

19. Puerto Rico

20. Virgin Islands

21. Falconry

22. Other

This and subsequent documents will refer only to numbered items requiring attention at the time of publication. Because this and other documents will omit those items not requiring attention, the remaining numbered items may be discontinuous and the list may appear incomplete.

Tribal Regulations

As part of our effort to improve the annual rulemaking process, we developed regulations pertaining to Tribes differently than we have in the past. Since the 1985-86 hunting season, we have employed guidelines described in the June 4, 1985, Federal Register (50 FR 23459) to establish special migratory game bird hunting regulations on Federal Indian reservations (including off-reservation trust lands) and ceded lands. We developed these guidelines in response to Tribal requests for our recognition of their reserved hunting rights, and for some Tribes, recognition of their authority to regulate hunting by both Tribal and nontribal members throughout their reservations. On September 1, 2023, we published a final rule for Migratory Game Bird Hunting Regulations on Certain Federal Indian Reservations and Ceded Lands (88 FR 60375). For inquiries on Tribal guidelines, Tribes should contact the address indicated under FOR FURTHER INFORMATION CONTACT.

Public Comments

The Department of the Interior's policy is, whenever practicable, to afford the public an opportunity to participate in the rulemaking process. Accordingly, we invite interested persons to submit written comments, suggestions, or recommendations regarding this proposed rule. We seek information and comments on the proposed regulatory alternatives for the 2024-25 general duck hunting seasons, other recommended changes or specific preliminary proposals that vary from the 2023-24 regulations, and issues requiring early discussion, action, or the attention of the States.

The Service believes that a 30-day comment period is warranted for this proposed rule as subsequent Federal Register documents will allow the public to submit comments on the overall hunting frameworks (see Schedule of Biological Information Availability, Regulations Meetings, and Federal Register Publications for the 2024-25 Hunting Season at the end of this proposed rule for further information). For each subsequent proposed rule associated with this rulemaking action, we will establish a specific comment period. Before promulgation of final migratory game bird hunting regulations, we will take into consideration all comments we receive. We will summarize the comments received and publish responses to all proposals and written comments when we develop final frameworks for the 2024-25 season. Such comments, and any additional information we receive, may lead to final regulations that differ from the proposed rules.

You may submit your comments and materials concerning this proposed rule by one of the methods listed in ADDRESSES. We will not accept comments sent by email or fax or to an address not listed in ADDRESSES. Finally, we will not consider mailed comments that are not postmarked by the date specified in DATES. We will post all comments in their entirety—including your personal identifying information—on https://www.regulations.gov. Before including your address, phone number, email address, or other personal identifying information in your comment, you should be aware that your entire comment—including your personal identifying information—may be made publicly available at any time. While you can ask us in your comment to withhold your personal identifying information from public review, we cannot guarantee that we will be able to do so. Comments and materials we receive, as well as supporting documentation we used in preparing this proposed rule, will be available for public inspection on https://www.regulations.gov.

Required Determinations

National Environmental Policy Act (NEPA) Consideration

The programmatic document, “Second Final Supplemental Environmental Impact Statement: Issuance of Annual Regulations Permitting the Sport Hunting of Migratory Birds (EIS 20130139),” filed with the Environmental Protection Agency (EPA) on May 24, 2013, addresses NEPA compliance by the Service for issuance of the annual framework regulations for hunting of migratory game bird species. We published a notice of availability in the Federal Register on May 31, 2013 (78 FR 32686), and our Record of Decision on July 26, 2013 (78 FR 45376). We also address NEPA compliance for waterfowl hunting frameworks through the annual preparation of separate environmental assessments, the most recent being “Duck Hunting Regulations for 2023-24,” with its corresponding January 2023 finding of no significant impact. In addition, an August 1985 environmental assessment entitled “Guidelines for Migratory Bird Hunting Regulations on Federal Indian Reservations and Ceded Lands” is available from the person listed above under FOR FURTHER INFORMATION CONTACT.

Endangered Species Act Consideration

Before issuance of the 2024-25 migratory game bird hunting regulations, we will comply with provisions of the Endangered Species Act of 1973, as amended (ESA; 16 U.S.C. 1531-1543), to ensure that hunting is not likely to jeopardize the continued existence of any species designated as endangered or threatened or adversely modify or destroy its critical habitat and is consistent with conservation programs for those species. Consultations under section 7 of the ESA may cause us to change proposals in future supplemental proposed rulemaking documents.

Regulatory Planning and Review—Executive Orders 12866, 13563, and 14094

Executive Order 14094 reaffirms the principles of E.O. 12866 and E.O. 13563. Regulatory analysis should facilitate agency efforts to develop regulations that serve the public interest, advance statutory objectives, and are consistent with E.O. 12866, E.O. 13563, and the Presidential Memorandum of January 20, 2021 (Modernizing Regulatory Review). Regulatory analysis, as practicable and appropriate, shall recognize distributive impacts and equity, to the extent permitted by law. We have developed this proposed rule in a manner consistent with these requirements.

E.O. 12866, as reaffirmed by E.O. 13563 and amended by E.O. 14094, provides that the Office of Information and Regulatory Affairs (OIRA) in the Office of Management and Budget (OMB) will review all significant rules. This action is a “significant regulatory action,” as defined under section 3(f)(1) of E.O. 12866 (58 FR 51735, October 4, 1993), as amended by E.O. 14094 (88 FR 21879, April 11, 2023).

An economic analysis was prepared for the 2024-25 migratory bird hunting season. This analysis was based on data from the 2011 and the 2016 National Survey of Fishing, Hunting, and Wildlife-Associated Recreation (National Survey), the most recent years for which data are available. See discussion under Required Determinations, Regulatory Flexibility Act, below. This analysis estimated consumer surplus for four alternatives for duck hunting regulations. As defined by OMB in Circular A-4, consumers' surplus is the difference between what a consumer pays for a unit of a good or service and the maximum amount the consumer would be willing to pay for that unit. The duck hunting regulatory alternatives are (1) not opening a hunting season, (2) issuing restrictive regulations that allow fewer days than the 2023-24 season, (3) issuing moderate regulations that allow more days than in Alternative 2 but fewer days than the 2023-24 season, and (4) issuing liberal regulations that allow days similar to the 2023-24 season. The estimated consumer surplus associated with liberal regulations issued for the 2023-24 season across all flyways was $356 million. We also chose Alternative 4 (liberal regulations) for the 2009-10 through 2022-23 seasons. The 2024-25 analysis is part of the record for this rulemaking action and is available at https://www.regulations.gov at Docket No. FWS-HQ-MB-2023-0113.

Regulatory Flexibility Act

The annual migratory bird hunting regulations have a significant economic impact on substantial numbers of small entities under the Regulatory Flexibility Act (5 U.S.C. 601 et seq.). An initial regulatory flexibility analysis was prepared to analyze the economic impacts of the annual hunting regulations on small business entities. This analysis is updated annually. The primary source of information about hunter expenditures for migratory game bird hunting is the National Survey, which is generally conducted at 5-year intervals. The 2024-25 migratory bird hunting season analysis is based on the 2011 and 2016 National Surveys and the U.S. Department of Commerce's County Business Patterns, from which it is estimated that migratory bird hunters would spend approximately $2.5 billion (2022$) at small businesses during the 2024-25 migratory bird hunting season. Copies of the analysis are available upon request from the person listed above under FOR FURTHER INFORMATION CONTACT or from https://www.regulations.gov at Docket No. FWS-HQ-MB-2023-0113.

Congressional Review Act

Pursuant to subtitle E of the Small Business Regulatory Enforcement Fairness Act (also known as the Congressional Review Act or CRA), 5 U.S.C. 801 et seq., OIRA designated this action as a major rule, as defined by 5 U.S.C. 804(2), because it is likely to result in an annual effect on the economy of $100 million or more. However, because this proposed rule would establish a regulatory program for activity related to hunting and because hunting seasons are time sensitive, we plan to establish the effective dates of the final rules using the exemption in the CRA at 5 U.S.C. 808(1).

Clarity of the Rule

We are required by E.O. 12866 and 12988 and by the Presidential Memorandum of June 1, 1998, to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in ADDRESSES. To better help us revise the rule, your comments should be as specific as possible. For example, you should tell us the numbers of the sections or paragraphs that are unclearly written, which sections or sentences are too long, the sections where you feel lists or tables would be useful, etc.

Paperwork Reduction Act

This rule does not contain any new collection of information that requires approval by the Office of Management and Budget (OMB) under the Paperwork Reduction Act of 1995 (44 U.S.C. 3501 et seq.). OMB has previously approved the information collection requirements associated with migratory bird surveys and the procedures for establishing annual migratory bird hunting seasons under the following OMB control numbers:

• 1018-0019, “North American Woodcock Singing Ground Survey” (expires 02/29/2024).

• 1018-0023, “Migratory Bird Surveys, 50 CFR 20.20” (expires 05/31/2026). Includes Migratory Bird Harvest Information Program, Migratory Bird Hunter Surveys, Sandhill Crane Survey, and Parts Collection Survey.

• 1018-0171, “Establishment of Annual Migratory Bird Hunting Seasons, 50 CFR part 20” (expires 10/31/2024).

You may view the information collection request(s) at http://www.reginfo.gov/public/do/PRAMain. An agency may not conduct or sponsor, and a person is not required to respond to, a collection of information unless it displays a currently valid OMB control number.

Unfunded Mandates Reform Act

We have determined and certify, in compliance with the requirements of the Unfunded Mandates Reform Act, 2 U.S.C. 1501 et seq., that this proposed rulemaking does not include any Federal mandate that may result in the expenditure by State, local, and Tribal governments, in the aggregate, or by the private sector, of $100 million or more (adjusted for inflation) in any 1 year and does not significantly or uniquely affect small governments.

Civil Justice Reform—Executive Order 12988

The Department, in promulgating this proposed rule, has determined that this rule will not unduly burden the judicial system and that it meets the requirements of sections 3(a) and 3(b)(2) of E.O. 12988.

Takings Implication Assessment—Executive Order 12630

In accordance with E.O. 12630, this proposed rule, authorized by the MBTA, does not have significant takings implications and does not affect any constitutionally protected property rights. This proposed rule would not result in the physical occupancy of property, the physical invasion of property, or the regulatory taking of any property. In fact, this proposed rule would allow hunters to exercise otherwise unavailable privileges and, therefore, would reduce restrictions on the use of private and public property.

Energy Effects—Executive Order 13211

E.O. 13211 requires agencies to prepare statements of energy effects when undertaking certain actions. While this proposed rule is a significant regulatory action under E.O. 12866, it is not likely to have a significant adverse effect on the supply, distribution, or use of energy and has not been designated by OIRA as a significant energy action. Therefore, no statement of energy effects is required.

Government-to-Government Relationship With Tribes

In accordance with the President's memorandum of April 29, 1994, “Government-to-Government Relations with Native American Tribal Governments” (59 FR 22951), E.O. 13175, and 512 DM 2, we have evaluated possible effects on federally recognized Indian Tribes and have determined that there are de minimis effects on Indian Tribes. Through this process to establish annual hunting regulations, we regularly coordinate with Tribes that are affected by this rulemaking action. This proposed rule is general in nature and does not directly affect any specific Tribal lands, treaty rights, or Tribal trust resources. In addition, this proposed rule would not interfere with the ability of Tribes to manage themselves or their funds or to regulate migratory bird activities on Tribal lands. Therefore, we preliminarily conclude that this proposed rule does not have “Tribal implications” under section 1(a) of E.O. 13175. Thus, formal government-to-government consultation is not required by E.O. 13175 and related policies of the Department of the Interior. We will continue to collaborate with Tribes on concerns related to migratory bird hunting regulations.

We routinely provide Federal Register publications and biological status reports pertaining to migratory bird management and regulations online for all Tribes, State Directors, and other interested parties. Upon being notified of any concern regarding proposed and final regulations, we have initiated consultation, and we will continue to consult with Tribes when necessary.

Federalism Effects—Executive Order 13132

Due to the migratory nature of certain species of birds, the Federal Government has been given responsibility over these species by the MBTA. We annually prescribe frameworks from which the States make selections regarding the hunting of migratory birds, and we employ guidelines to establish special regulations on Federal Indian reservations and ceded lands. This process preserves the ability of the States and Tribes to determine which seasons meet their individual needs. Any State or Tribe may be more restrictive in its regulations than the Federal frameworks at any time. The frameworks are developed in a cooperative process with the States and the Flyway Councils. This process allows States to participate in the development of frameworks from which they will make selections, thereby having an influence on their own regulations. These rules do not have substantial direct effects on the States, on the relationship between the national government and the States, or on the distribution of power and responsibilities among the various levels of government. Therefore, in accordance with E.O. 13132, these regulations do not have federalism implications and do not warrant the preparation of a federalism summary impact statement.

List of Subjects in 50 CFR Part 20

Exports, Hunting, Imports, Reporting and recordkeeping requirements, Transportation, Wildlife.

Authority

The rules that eventually will be promulgated for the 2024-25 hunting season are authorized under 16 U.S.C. 703-711, 712, and 742 a-j.

Shannon A. Estenoz,
Assistant Secretary for Fish and Wildlife and Parks.

Proposed 2024-25 Migratory Game Bird Hunting Regulations (Preliminary)

Pending current information on populations, harvest, and habitat conditions, and receipt of recommendations from the four Flyway Councils, we may defer specific regulatory proposals. Issues requiring early discussion, action, or the attention of the States or Tribes are described below.

1. Ducks

As mentioned earlier in this document, the categories used to discuss issues related to duck harvest management are: (A) General Harvest Strategy, (B) Regulatory Alternatives, (C) Zones and Split Seasons, and (D) Special Seasons/Species Management. Only those categories containing substantial recommendations (A, B, and D) are discussed below.

A. General Harvest Strategy

We will continue to use adaptive harvest management (AHM) to help determine appropriate duck-hunting regulations for the 2024-25 season. AHM is a tool that permits sound resource decisions in the face of uncertain regulatory impacts and provides a mechanism for reducing that uncertainty over time. We use an AHM protocol (decision framework) to evaluate four regulatory alternatives, each with a different expected harvest level, and choose the optimal regulation for duck hunting based on the status and demographics of mallards for the Mississippi, Central, and Pacific Flyways, and based on the status and demographics of a suite of four species (eastern waterfowl) in the Atlantic Flyway. We have specific AHM protocols that guide appropriate bag limits and season lengths for species of special concern, including black ducks, scaup, pintails, and mallards in the Atlantic Flyway (eastern mallards), within the general duck season. These protocols use the same outside season dates and lengths as those regulatory alternatives for the 2024-25 general duck seasons.

For the 2024-25 hunting season, we will continue to use independent optimizations to determine the appropriate regulatory alternative for mallard stocks in the Mississippi, Central, and Pacific Flyways and for eastern waterfowl in the Atlantic Flyway. This means that we will develop regulations for mid-continent mallards, western mallards, and eastern waterfowl independently based on the breeding stock that contributes primarily to each Flyway. We detailed implementation of AHM protocols for mid-continent and western mallards in the July 24, 2008, Federal Register (73 FR 43290), and for eastern waterfowl in the September 21, 2018, Federal Register (83 FR 47868).

B. Regulatory Alternatives

The basic structure of the current regulatory alternatives for AHM was adopted in 1997 (beginning with the 1997-98 general duck hunting season; 62 FR 31298, June 6, 1997). Beginning with the 2002-03 season, based upon recommendations from the Flyway Councils, we extended framework dates in the “moderate” and “liberal” regulatory alternatives by changing the opening date from the Saturday nearest October 1 to the Saturday nearest September 24, and by changing the closing date from the Sunday nearest January 20 to the last Sunday in January (67 FR 47224, July 17, 2002). These extended dates were made available with no associated penalty in season length or bag limits. Beginning with the 2019-20 season, we adopted a closing duck framework date of January 31 for the “moderate” and “liberal” alternatives in the Atlantic Flyway as part of the Atlantic Flyway's eastern waterfowl AHM protocol (83 FR 47868, September 21, 2018). We subsequently proposed to extend the framework closing date to January 31 across all four Flyways for the 2019-20 season (84 FR 16152, April 17, 2019).

The John D. Dingell, Jr. Conservation, Management, and Recreation Act of 2019 (Pub. L. 116-9, Dingell Act) amended the MBTA to establish that the closing framework date for duck seasons will be January 31, unless a flyway chooses an earlier closing date. Thus, as directed by the Dingell Act, we adjusted the framework closing date under each regulatory alternative for all four Flyways to January 31 beginning with the 2019-20 season (84 FR 42996, August 19, 2019). Beginning with the 2021-22 season, we agreed to move the opening framework date to 1 week earlier in the restrictive regulatory alternative for the Mississippi and Central Flyways based on their recommendations (85 FR 51854, August 21, 2020).

For the 2024-25 general duck season, we propose to use the same regulatory alternatives that are in effect for the 2023-24 season (see table at the end of this proposed rule for specifics of the regulatory alternatives). Alternatives are specified for each Flyway and are designated as “RES” for the restrictive, “MOD” for the moderate, and “LIB” for the liberal alternative. We plan to finalize AHM regulatory alternatives for the 2024-25 season in a proposed rule, which we plan to publish by winter 2023 (see Schedule of Biological Information Availability, Regulations Meetings, and Federal Register Publications for the 2024-25 Hunting Season at the end of this proposed rule for further information).

D. Special Seasons/Species Management

xii. Other

Although not part of any current harvest management strategy, we propose to allow South Dakota and Nebraska to continue to conduct a pilot study during the 2024-25 duck season of a two-tier regulatory system as described in the March 19, 2020, proposed rule (85 FR 15870). This would be the last year of a planned 4-year pilot study. The intent of the two-tier regulation study is to evaluate whether regulations that relax the requirement for hunters to identify duck species can improve waterfowl hunter recruitment and retention.¹ Declines in waterfowl hunter numbers have been of concern to the Service and the Flyway Councils, prompting the development of recruitment, retention, and reactivation efforts in the conservation community. The study would allow a person to obtain one of two license types during the duck season. The first license type would allow a daily bag limit as specified in the current duck regulations (six ducks), along with attendant species and sex restrictions. The second license type would allow a daily bag limit of only three ducks, but they could be of any species or sex. Memoranda of agreement between the Service and the two States specify the purpose of the study and the roles and responsibilities of each party while conducting the pilot study. A final report for the pilot study will be due to the Service after the 2024-25 hunting season.

¹ The Service's primary goal is to ensure that waterfowl sport harvest management conforms to the MBTA and ensures the long-term conservation of bird populations. The various harvest strategies reflect this goal by ensuring that harvest does not exceed maximum sustainable yield (MSY). Secondarily to the MBTA, the Service has adopted policies to promote wildlife-based recreation, including migratory bird harvest. To the extent that management actions designed to promote hunter recruitment and retention do not result in harvest greater than the biological capacity of a population (i.e., does not exceed MSY), the Service deems these actions to be in accordance with the MBTA. Management actions that result in harvest equal to or less than MSY will result in stable or increasing populations and provide consumptive and nonconsumptive uses indefinitely.

[FR Doc. 2024-02517 Filed 2-7-24; 8:45 am]

BILLING CODE 4333-15-P